DEPARTMENT OF THE INTERIOR

National Park Service

[2253-665]

Notice of Inventory Completion: U.S. Department of the Interior, National Park Service, Organ Pipe Cactus National Monument, Ajo, AZ and Arizona State Museum, Tucson, AZ

AGENCY: National Park Service, Interior.

ACTION: Notice

SUMMARY: Organ Pipe Cactus National Monument has completed an inventory of human remains and associated funerary objects, in consultation with the appropriate Indian tribes, and has determined that there is a cultural affiliation between the human remains and associated funerary objects and present-day Indian tribes. Representatives of any Indian tribe that believes itself to be culturally affiliated with the human remains and associated funerary objects may contact Organ Pipe Cactus National Monument. Repatriation of the human remains and associated funerary objects to the Indian tribes stated below may occur if no additional claimants come forward.

DATES: Representatives of any Indian tribe that believes it has a cultural affiliation with the human remains and associated funerary objects should contact Organ Pipe Cactus National Monument at the address below by January 9, 2012.

ADDRESSES: Lee Baiza, Superintendent, Organ Pipe Cactus National Monument, 10 Organ Pipe Drive, Ajo, AZ 85321, telephone (520) 387-6849 ext. 7500.

SUPPLEMENTARY INFORMATION: Notice is here given in accordance with the Native American Graves Protection and Repatriation Act (NAGPRA), 25 U.S.C. 3003, of the completion of an inventory of human remains and associated funerary objects in the control of Organ Pipe Cactus National Monument, Ajo, AZ and in the physical custody of the Arizona State Museum, Tucson, AZ. The human remains and associated funerary objects were removed from site AZ Y:16:002 (ASM) in Pima County, AZ.

This notice is published as part of the National Park Service's administrative responsibilities under NAGPRA, 25 U.S.C. 3003(d)(3). The determinations in this notice are the sole responsibility of the Superintendent, Organ Pipe Cactus National Monument.

Consultation

A detailed assessment of the human remains was made by Organ Pipe Cactus National Monument and Arizona State Museum professional staff in consultation with representatives of the Ak Chin Indian Community of the Maricopa (Ak Chin) Indian Reservation, Arizona; Gila River Indian Community of the Gila River Indian Reservation, Arizona; Hopi Tribe of Arizona; Quechan Tribe of the Fort Yuma Indian Reservation, California and Arizona; and Tohono O'odham Nation of Arizona. The Cocopah Tribe of Arizona; Colorado River Indian Tribes of the Colorado River Indian Reservation, Arizona and California; Fort Mojave Indian Tribe of Arizona, California, and Nevada; Salt River Pima-Maricopa Indian Community of the Salt River Reservation, Arizona; and Zuni Tribe of the Zuni Reservation, New Mexico were also contacted for consultation purposes.

History and Description of the Remains

Between 1951 and 1954, human remains representing, at minimum, one individual were removed from site AZ Y:16:002 (ASM) in Pima County, AZ. The remains were removed during archeological fieldwork under the direction of Paul H. Ezell in a cooperative project between Arizona State Museum and the National Park Service. Project collections were stored at the NPS Southwestern National Monuments Headquarters, also known as the Southwest Archaeological Center, in Globe, AZ, for analysis and report preparation. The professional report was never completed. It is unclear at what point the cremated remains came to be in collections storage at the Arizona State Museum. No known individuals were identified. The 38 associated funerary objects are 2 faunal bone fragments and 36 fragments of charcoal.

Based upon the archeological context, including the presence of Tanque Verde Red-on-Brown ceramics, the remains have been determined to be Native American dating to A.D. 1150-1450, commonly known to the archeological community as the Classic Hohokam period.

A relationship of shared group identity can reasonably be traced between members of the Hohokam culture and the four southern O'odham tribes of Arizona. The O'odham people comprise four Federally recognized Indian tribes (the Ak Chin Indian Community of the Maricopa (Ak Chin) Indian Reservation, Arizona; Gila River Indian Community of the Gila River Indian Reservation, Arizona; Salt River Pima-Maricopa Indian Community of the Salt River Reservation, Arizona; and Tohono O'odham Nation of Arizona) and one Indian Group that is not Federally recognized, the Hia C-ed O'odham. A Hia C-ed O'odham association with lands lying directly to the west of the Ajo Mountains, including Organ Pipe Cactus National Monument, is documented throughout the historic period and into the 20th century.

O'odham oral histories describe the end time of the Hohokam, when O'odham armies gathered and marched on the Great House communities (e.g., Casa Grande, Pueblo Grande) and cast out the Hohokam societies there. The armies then occupied the conquered lands, intermarrying with the remnants of the Hohokam and ultimately becoming the O'odham people. Other evidence of the O'odham-Hohokam connection includes similar settlement patterns, irrigation systems, residence styles, and a possible relationship between modern O'odham kickball games and formal Hohokam ball courts.

A relationship of shared group identity can also reasonably be traced between members of the Hohokam culture and the Hopi Tribe of Arizona. Hopi history is based, in large part, on clan migration narratives. The Hopi consider all of Arizona to be within traditional Hopi lands, i.e., areas in and through which Hopi clans are believed to have migrated in the past. Hopi oral history and the anthropological record show that some clans originated in the Salt-Gila region and were descended from the Hohokam. After the fall of the Great House communities, Hohokam refugees were absorbed into the Hopi culture.

A relationship of shared group identity can also reasonably be traced between members of the Hohokam culture and the Zuni Tribe of the Zuni Reservation, New Mexico. Zuni oral history tells of ancestral migrations and settling throughout this region in their search for the Middle Place of the World (present day Pueblo of Zuni). Elders have identified features in the area, including shrines and petroglyphs, as Zuni. Zuni ancestors left many markers of their passing including trails, habitation sites, campsites, burials, sacred shrines, and rock art.

Determinations Made by Organ Pipe Cactus National Monument

Officials of Organ Pipe Cactus National Monument have determined that:

• Pursuant to 25 U.S.C. 3001(9), the human remains described in this notice represent the physical remains of one individual of Native American ancestry.

• Pursuant to 25 U.S.C. 3001(3)(A), the 38 objects described above are reasonably believed to have been placed with or near individual human remains at the time of death or later as part of the death rite or ceremony.

• Pursuant to 25 U.S.C. 3001(2), there is a relationship of shared group identity that can be reasonably traced between the Native American human remains and associated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico.

Additional Requestors and Disposition

Representatives of any Indian tribe that believes itself to be culturally affiliated with the human remains and associated funerary objects should contact Lee Baiza, Superintendent, Organ Pipe Cactus National Monument, 10 Organ Pipe Drive, Ajo, AZ 85321, telephone (520) 387-6849 ext. 7500 before January 9, 2012. Repatriation of the human remains and associated funerary objects to the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and Zuni Tribe of the Zuni Reservation, New Mexico may proceed after that date if no additional claimants come forward.

Organ Pipe Cactus National Monument is responsible for notifying the Ak Chin Indian Community of the Maricopa (Ak Chin) Indian Reservation, Arizona; Cocopah Tribe of Arizona; Colorado River Indian Tribes of the Colorado River Indian Reservation, Arizona and California; Fort Mojave Indian Tribe of Arizona, California, and Nevada; Gila River Indian Community of the Gila River Indian Reservation, Arizona; Hopi Tribe of Arizona; Quechan Tribe of the Fort Yuma Indian Reservation, California and Arizona; Salt River Pima-Maricopa Indian Community of the Salt River Reservation, Arizona; Tohono O'odham Nation of Arizona; and Zuni Tribe of the Zuni Reservation, New Mexico that this notice has been published.

Dated: December 5, 2011.
Sherry Hutt,
Manager, National NAGPRA Program.

[FR Doc. 2011-31614 Filed 12-8-11; 8:45 am]

BILLING CODE 4310-50-P